DEPARTMENT OF JUSTICE

Notice of Lodging of Proposed Consent Decree Amendment Under the Clean Water Act

On July 29, 2014, the Department of Justice lodged with the United States District Court for the Southern District of Iowa a Consent Decree in United States v. Archer Daniels Midland Company, Civil Action: 3:14-cv-00089 SMR-RAW.

This civil action asserts claims for penalties and injunctive relief under the Clean Water Act (“CWA”) 33 U.S.C. 1251 et seq. against Archer Daniels Midland Company (“ADM”) regarding its alleged failure to comply with regulations issued under Section 311(j) of the CWA at five oil storage facilities located in the states of Missouri, Nebraska and Iowa. Additionally, this action asserts claims for violation of industrial stormwater permits issued pursuant to Section 402 of the CWA at three of the same five facilities.

The United States seeks injunctive relief and civil penalties intended to deter ADM's further non-compliance with the CWA at the subject facilities.

The publication of this notice opens a period for public comment on the Consent Decree. Comments should be addressed to the Assistant Attorney General, Environment and Natural Resources Division, and should refer to United States v. Archer Daniels Midland Company, Civil Action: 3:14-cv-00089 SMR-RAW, D.J. Ref. No. 90-5-1-1-10893.

All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.75 (25 cents per page reproduction cost) payable to the United States Treasury.

Susan M. Akers,
Assistant Section Chief, Environmental Enforcement Section, Environment and Natural Resources Division.

[FR Doc. 2014-18573 Filed 8-5-14; 8:45 am]

BILLING CODE 4410-15-P